DEPARTMENT OF ENERGY

Federal Energy Regulatory Commission

[Docket No. IC16-3-000]

Commission Information Collection Activities; (FERC-556, FERC-606, and FERC-607); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting its information collections FERC-556 (Certification of Qualifying Facility Status for a Small Power Production or Cogeneration Facility), FERC-606 (Notification of Request for Federal Authorization and Requests for Further Information), and FERC-607 (Report on Decision or Action on Request for Federal Authorization) to the Office of Management and Budget (OMB) for review of the information collection requirements. Any interested person may file comments directly with OMB and should address a copy of those comments to the Commission as explained below. The Commission previously issued a Notice in the Federal Register (80 FR 74101, 11/27/2015) requesting public comments. The Commission received no comments on the FERC-556, FERC-606, or FERC-607 and is making this notation in its submittal to OMB.

DATES: Comments on the collections of information are due by April 25, 2016.

ADDRESSES: Comments filed with OMB, identified by the OMB Control Nos. 1902-0075 (FERC-556) and 1902-0241 (FERC-606 and FERC-607) should be sent via email to the Office of Information and Regulatory Affairs: oira_submission@omb.gov. Attention: Federal Energy Regulatory Commission Desk Officer. The Desk Officer may also be reached via telephone at 202-395-0710.

A copy of the comments should also be sent to the Commission, in Docket No. IC16-3-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-556, Certification of Qualifying Facility Status for a Small Power Production or Cogeneration Facility

OMB Control No.: 1902-0075.

Abstract: Form No. 556 is required to implement sections 201 and 210 of the Public Utility Regulatory Policies Act of 1978 ¹ (PURPA). FERC is authorized, under those sections, to encourage cogeneration and small power production and to prescribe such rules as necessary in order to carry out the statutory directives.

¹ 16 U.S.C. 796, 824a-3.

A primary statutory objective is efficient use of energy resources and facilities by electric utilities. One means of achieving this goal is to encourage production of electric power by cogeneration facilities which make use of reject heat associated with commercial or industrial processes, and by small power production facilities which use other wastes and renewable resources. PURPA encourages the development of small power production facilities and cogeneration facilities that meet certain technical and corporate criteria through establishment of various regulatory benefits. Facilities that meet these criteria are called Qualifying Facilities (QFs).

FERC's regulations in 18 CFR part 292, as relevant here, specify: (a) The certification procedures which must be followed by owners or operators of small power production and cogeneration facilities; (b) the criteria which must be met; (c) the information which must be submitted to FERC in order to obtain qualifying status; and (d) the PURPA benefits which are available to QFs to encourage small power production and cogeneration.

18 CFR part 292 also exempts QFs from certain corporate, accounting, reporting, and rate regulation requirements of the Federal Power Act,² certain state laws and the Public Utility Holding Company Act of 2005.³

² 16 U.S.C. 791, et seq.

³ 42 U.S.C. 16, 451-63.

Type of Respondent: Facilities that are self-certifying their status as a cogenerator or small power producer or that are submitting an application for FERC certification of their status as a cogenerator or small power producer.

Estimate of Annual Burden: The Commission estimates the annual public reporting burden for the information collection as:

FERC-556—Certification of Qualifying Facility Status for a Small Power Production or Cogeneration Facility
|  | Number of respondents | Annual number of responses per respondent | Total number of responses | Average burden hours and cost per response ⁴ | Total annual burden hours and total annual cost | Cost per respondent ($)
Facility type | Filing type | (1) | (2) | (1) * (2) = (3) | (4) | (3) * (4) = (5) | (5) ÷ (1)
Cogeneration Facility >1 MW ⁵ | Self-certification | 54 | 1.25 | 67.5 | 1.5 hrs; $108 | 101.25 hrs; $7,290 | $135
Cogeneration Facility >1 MW | Application for FERC certification | 1 | 1.25 | 1.25 | 50 hrs; $3,600 | 62.5 hrs; $4,500 | 4,500
Small Power Production Facility >1 MW | Self-certification | 1,787 | 1.25 | 2,234 | 1.5 hrs; $108 | 3,351hrs; $241,272 | 135
Small Power Production Facility >1 MW | Application for FERC certification | 0 | 1.25 | 0 | 50 hrs; $3,600 | 0 hrs; $0 | 0
Cogeneration and Small Power Production Facility ≤1 MW (Self-Certification) ⁶ | Self-certification | 312 | 1.25 | 390 | 1.5 hrs; $108 ⁷ | 585 hrs; $42,120 | 135
Total |  | 2,154 |  | 2,693 |  | 4,100 hrs; $295,182 |

FERC-606, Notification of Request for Federal Authorization and Requests for Further Information; FERC-607, Report on Decision or Action on Request for Federal Authorization

⁴ The burden costs are based on an FERC's 2015 average annual wage (and benefits) figure for a full-time employee of $149,489 ($72/hour). The Commission staff believes that industry is similarly situated in terms of staff costs and skill sets.

⁵ MW = megawatt.

⁶ Not required to file.

⁷ The “Cost per Response” for the Cogeneration and Small Power Production Facility ≤ 1MW (Self-Certification) respondent category was incorrectly presented as $3,600 in the 60-day notice for the FERC-556 information collection (Docket No. IC16-3; 80 FR 74101, 11/27/2015). The figure is corrected to $108 in this notice.

OMB Control No.: 1902-0241.

Abstract: FERC-606 requires agencies and officials responsible for issuing, conditioning, or denying requests for federal authorizations necessary for a proposed natural gas project to report to the Commission regarding the status of an authorization request. This reporting requirement is intended to allow agencies to assist the Commission to make better informed decisions in establishing due dates for agencies' decisions.

FERC-607 requires agencies or officials to submit to the Commission a copy of a decision or action on a request for federal authorization and an accompanying index to the documents and materials relied on in reaching a conclusion.

The information collections can neither be discontinued nor collected less frequently because of statutory requirements. The consequences of not collecting this information are that the Commission would be unable to fulfill its statutory mandate under the Energy Policy Act of 2005 to:

• Establish a schedule for agencies to review requests for federal authorizations required for a project, and

• Compile a record of each agency's decision, together with the record of the Commission's decision, to serve as a consolidated record for the purpose of appeal or review, including judicial review.

Type of Respondent: Agencies with federal authorization responsibilities.

Estimate of Annual Burden: The Commission estimates the annual public reporting burden and cost ⁸ (rounded) for the information collection as follows:

⁸ The cost is based on FERC's average cost (salary plus benefits) of $72/hour for 2015. The Commission staff believes that the level and skill set (as a reporting agency official, e.g., Environmental Program Manager or Reviewer) is comparable to FERC staff.

FERC-606—(Notification of Request for Federal Authorization and Requests for Further Information), and FERC-607 (Report on Decision or Action on Request for Federal Authorization)
| Number of respondents | Annual number of responses per respondent | Total number of responses | Average burden hours and cost per response | Total annual burden hours and total annual cost | Cost per respondent ($)
| (1) | (2) | (1) * (2) = (3) | (4) | (3) * (4) = (5) | (5) ÷ (1)
FERC-606 | 6 | 1 | 6 | 4 hrs; $288 | 24 hrs; $1,728 | $288
FERC-607 | 1 | 1 | 1 | 1 hr.; $72 | 1 hr.; $72 | 72
Total | 7 |  |  |  | 25 hrs; $1,800 |

Dated: March 21, 2016.
Nathaniel J. Davis, Sr.,
Deputy Secretary.

[FR Doc. 2016-06776 Filed 3-24-16; 8:45 am]

BILLING CODE 6717-01-P